DEPARTMENT OF ENERGY

Federal Energy Regulatory Commission

[Docket No. EG00-134-000, et al.]

Worthington Generation L.L.C., et al.; Electric Rate and Corporate Regulation Filings

April 21, 2000.

Take notice that the following filings have been made with the Commission:

1. Worthington Generation L.L.C.

[Docket No. EG00-134-000]

Take notice that on April 18, 2000, Worthington Generation L.L.C. (WG) tendered for filing pursuant to Part 365 of the Commission's Regulations, 18 CFR 365, its application for determination of exempt wholesale generator status.

WG is a wholly owned subsidiary of Williams Energy Marketing & Trading Company and initially will own a combustion turbine generating plant with a capacity of approximately 173 MW net in summer ambient conditions and 180 MW net in winter conditions, located three miles south of Worthington, Indiana on State Highway 57.

Comment date: May 12, 2000, in accordance with Standard Paragraph E at the end of this notice. The Commission will limit its consideration of comments to those that concern the adequacy or accuracy of the application.

2. Charles A. McMonagle

[Docket No. ID-3478-000]

Take notice that on April 19, 2000, Charles A. McMonagle tendered for filing with the Federal Energy Regulatory Commission (Commission) an application pursuant to Section 305(b) of the Federal Power Act, 16 U.S.C. 825d(b), and orders of the Commission in El Dorado Energy, LLC, 85 FERC ¶ 61,006 (1998), and Enova Energy, Inc., 76 FERC ¶ 61,242 (1996), for authority to hold interlocking positions.

Comment date: May 19, 2000, in accordance with Standard Paragraph E at the end of this notice.

3. Salt River Project Agricultural Improvement And Power District

[Docket No. NJ99-3-001]

Take notice that on April 19, 2000, Salt River Project Agricultural Improvement and Power District (SRP) tendered for filing a revised Open Access Transmission Tariff to comply with the Commission's March 20, 2000 Order.

Comment date: May 19, 2000, in accordance with Standard Paragraph E at the end of this notice.

4. Entergy Services, Inc.

[Docket No. ER00-2212-000]

Take notice that on April 14, 2000, Entergy Services, Inc., on behalf of Entergy Arkansas, Inc., and Entergy Gulf States, Inc., tendered for filing generator imbalance agreements with Air Liquide America Corporation, RS Cogen, L.L.C., SRW Cogeneration Limited Partnership, Pine Bluff Energy LLC (Pine Bluff), and Carville Energy LLC (Carville), and an amendment to the Interconnection and Operating Agreements with Pine Bluff and Carville.

Comment date: May 5, 2000, in accordance with Standard Paragraph E at the end of this notice.

5. Arizona Public Service Company

[Docket No. ER00-2226-000]

Take notice that on April 18, 2000, Arizona Public Service Company tendered for filing notice that effective June 1, 2000, Service Schedule A-3 (Emergency Assistance) and the Economy Energy Agreement in APS F.P.C. Rate Schedule No. 26, effective date October 20, 1964 and filed with the Federal Energy Regulatory Commission by Arizona Public Service Company are to be canceled.

Copies of the proposed cancellation has been served upon PacifiCorp (formerly doing business as Utah Power & Light), The Arizona Corporation Commission and the Public Service Commission of Utah.

Comment date: May 9, 2000, in accordance with Standard Paragraph E at the end of this notice.

6. Allegheny Energy Service Corporation, on behalf of Monongahela Power Company, The Potomac Edison Company, and West Penn Power Company (Allegheny Power)

[Docket No. ER00-2227-000]

Take notice that on April 18, 2000, Allegheny Energy Service Corporation on behalf of Monongahela Power Company, The Potomac Edison Company and West Penn Power Company (Allegheny Power), tendered for filing Supplement No. 77 to add Amerada Hess Corporation to Allegheny Power's Open Access Transmission Service Tariff which has been accepted for filing by the Federal Energy Regulatory Commission in Docket No. ER96-58-000.

The proposed effective date under the Service Agreements is April 17, 2000 or a date ordered by the Commission.

Copies of the filing have been provided to the Public Utilities Commission of Ohio, the Pennsylvania Public Utility Commission, the Maryland Public Service Commission, the Virginia State Corporation Commission, and the West Virginia Public Service Commission.

Comment date: May 9, 2000, in accordance with Standard Paragraph E at the end of this notice.

7. Peco Energy Company

[Docket No. ER00-2228-000]

Take notice that on April 18, 2000, PECO Energy Company (PECO), tendered for filing under Section 205 of the Federal Power Act, 16 U.S.C. 792 et seq., an Agreement dated April 10, 2000 with DTE Energy Trading, Inc. (DTE) under PECO's FERC Electric Tariff Original Volume No. 1 (Tariff).

PECO requests an effective date of April 10, 2000 for the Agreement.

PECO states that copies of this filing have been supplied to DTE Energy Trading, Inc. and to the Pennsylvania Public Utility Commission.

Comment date: May 9, 2000, in accordance with Standard Paragraph E at the end of this notice.

8. Northeast Utilities Service Company

[Docket No. ER00-2229-000]

Take notice that on April 18, 2000, Northeast Utilities Service Company (NUSCO) on behalf of its affiliates, The Connecticut Light and Power Company, Western Massachusetts Electric Company, Holyoke Water Power Company, Holyoke Power and Electric Company, and Public Service Company of New Hampshire, tendered for filing two agreements that amend certain schedules to an Amended and Restated Power Sales Agreement between NUSCO and Citizens Power Sales LLC, under the NU System Companies' Sale for Resale Tariff No. 6.

NUSCO requests an effective date of April 27, 2000, or such other earliest date as permitted by the Commission.

NUSCO states that a copy of this filing was mailed to Citizens Power Sales LLC and the Connecticut Department of Public Utility Control.

Comment date: May 9, 2000, in accordance with Standard Paragraph E at the end of this notice.

9. Commonwealth Edison Company

[Docket No. ER00-2230-000]

Take notice that on April 18, 2000, Commonwealth Edison Company (ComEd) submitted for filing three Non-Firm Transmission Service Agreements with SkyGen Energy Marketing, LLC (SkyGen), Conectiv Energy Supply, Inc. (Conectiv), and MIECO Inc. (MIECO), and three Short-Term Firm Transmission Service Agreements with SkyGen, Conectiv, and MIECO under the terms of ComEd's Open Access Transmission Tariff (OATT).

ComEd is also updating its Index of Customers to reflect names changes for Dynegy Midwest Generation, Inc. (Dynegy), Alliant Energy Corporate Services, Inc., (Alliant) and Northern States Power Company (NSP).

ComEd requests an effective date of April 18, 2000 for the service agreements, and accordingly, seeks waiver of the Commission's notice requirements. Copies of this filing were served on Skygen, Conectiv, MIECO, Dynegy, Alliant and NSP.

Comment date: May 9, 2000, in accordance with Standard Paragraph E at the end of this notice.

10. Louisville Gas and Electric Company/Kentucky Utilities Company

[Docket No. ER00-2231-000]

Take notice that on April 18, 2000, Louisville Gas and Electric Company (LG&E)/Kentucky Utilities Company (KU) (hereinafter Companies), tendered for filing an unexecuted unilateral Service Agreement between the Companies and Conectiv Energy Supply Inc., under the Companies Rate Schedule MBSS.

Comment date: May 9, 2000, in accordance with Standard Paragraph E at the end of this notice.

11. American Electric Power Service Corporation

[Docket No. ER00-2232-000]

Take notice that on April 18, 2000, the American Electric Power Service Corporation (AEPSC), on behalf of Ohio Power Company (OPC), tendered for filing with the Commission a Facilities, Operations and Maintenance Agreement dated March 10, 2000, between OPC and the Village of Deshler, Ohio.

AEPSC requests an effective date of May 1, 2000 for the tendered agreement.

A copy of the filing was served upon the Village of Deshler, Ohio, American Municipal Power—Ohio, Inc. and the Public Utilities Commission of Ohio.

Comment date: May 9, 2000, in accordance with Standard Paragraph E at the end of this notice.

12. West Texas Utilities Company

[Docket No. ER00-2233-000]

Take notice that on April 18, 2000, West Texas Utilities Company (WTU), tendered for filing an Interconnection Agreement between WTU and National Wind Power Limited (National). WTU requests an effective date for the Interconnection Agreement of sixty (60) days after the date of the filing.

WTU states that a copy of the filing was served on National and the Public Utility Commission of Texas.

Comment date: May 9, 2000, in accordance with Standard Paragraph E at the end of this notice.

13. Entergy Services, Inc.

[Docket No. ER00-2212-000]

Take notice that the Notice of Filing issued on April 19, 2000, in Docket No. ER00-2212-000, should be rescinded.

14. Ouachita Power, LLC

[Docket No. ER00-2235-000]

Take notice that on April 18, 2000, Ouachita Power, LLC, an electric power developer organized under the laws of Delaware, petitioned the Commission for acceptance of its market-based rate schedule, waiver of certain requirements under subparts B and C of Part 35 of the Commission's Regulations, and preapproval of transactions under Part 34 of the regulations. Ouachita is developing an 816 MW (summer rated) gas-fired generating facility near the city of Sterlington, Louisiana.

Comment date: May 9, 2000, in accordance with Standard Paragraph E at the end of this notice.

15. Worthington Generation L.L.C.

[Docket No. ER00-2236-000]

Take notice that on April 18, 2000, Worthington Generation L.L.C. (WG), tendered for filing pursuant to sSection 205 of the Commission's Rules of Practice and Procedure, 18 CFR 385.205, its application for waivers and blanket approvals under various regulations of the Commission and for an order accepting its Electric Rate Schedule FERC No. 1.

Comment date: May 9, 2000, in accordance with Standard Paragraph E at the end of this notice.

Standard Paragraphs

E. Any person desiring to be heard or to protest such filing should file a motion to intervene or protest with the Federal Energy Regulatory Commission, 888 First Street, NE, Washington, DC 20426, in accordance with rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-10564 Filed 4-27-00; 8:45 am]

BILLING CODE 6717-01-P